DEPARTMENT OF COMMERCE

National Oceanic and Atmospheric Administration

50 CFR Part 660

[Docket No. 260123-0033]

RIN 0648-BN95

Magnuson-Stevens Act Provisions; Fisheries Off West Coast States; Pacific Coast Groundfish Fishery; Cordell Bank Groundfish Conservation Area Revisions

AGENCY: National Marine Fisheries Service (NMFS), National Oceanic and Atmospheric Administration (NOAA), Commerce.

ACTION: Proposed rule; request for comments.

SUMMARY: NMFS issues these proposed regulations to remove the Cordell Bank Groundfish Conservation Area off central California for all groundfish fisheries and implement a new Groundfish Exclusion Area for all groundfish fisheries to protect sensitive habitat. The purpose of this proposed rule is to simplify regulatory complexity associated with overlapping fishery closures in the Cordell Bank area, and to increase fishing opportunity, while still protecting the Cordell Bank ecosystem. NMFS also announces the availability of a draft environmental assessment that analyzes the potential effects of the proposed rule.

DATES: Comments on this proposed rule must be received on or before March 4, 2026.

ADDRESSES: A plain language summary of this proposed rule is available at https://www.regulations.gov/docket/NOAA-NMFS-2025-0047. You may submit comments on this document, identified by NOAA-NMFS-2025-0047, by the following method:

• Electronic Submission: Submit all electronic public comments via the Federal e-Rulemaking Portal. Go to https://www.regulations.gov and type NOAA-NMFS-2025-0047 in the Search box. Click on the “Comment” icon, complete the required fields, and enter or attach your comments.

Instructions: Comments sent by any other method, to any other address or individual, or received after the end of the comment period, may not be considered by NMFS. All comments received are a part of the public record and will generally be posted for public viewing on https://www.regulations.gov without change. All personal identifying information (e.g., name, address), confidential business information, or otherwise sensitive information submitted voluntarily by the sender will be publicly accessible. NMFS will accept anonymous comments (enter “N/A” in the required fields if you wish to remain anonymous).

Electronic copies of the proposed rule may be obtained from https://www.regulations.gov and the NMFS West Coast Region website at https://www.fisheries.noaa.gov/region/west-coast. The draft integrated analysis that addresses the National Environmental Policy Act (NEPA), Presidential Executive Order 12866, the Regulatory Flexibility Act (RFA), and the statutory requirements of the Magnuson-Stevens Fishery Conservation and Management Act (Magnuson-Stevens Act) (collectively referred to as “the Analysis”), may be obtained from the Groundfish Actions NEPA website at https://www.fisheries.noaa.gov/west-coast/laws-policies/groundfish-actions-nepa-documents.

FOR FURTHER INFORMATION CONTACT: Lynn Massey, phone: 858-334-2851, or email: Lynn.Massey@noaa.gov.

SUPPLEMENTARY INFORMATION: The Pacific Coast groundfish fishery in the U.S. exclusive economic zone (EEZ) seaward of Washington, Oregon, and California is managed under the Pacific Coast Groundfish Fishery Management Plan (FMP). The Pacific Fishery Management Council (Council) developed the Pacific Coast Groundfish FMP pursuant to the Magnuson-Stevens Act, 16 U.S.C. 1801 et seq. The Secretary of Commerce approved the Pacific Coast Groundfish FMP and implemented the provisions of the plan at 50 CFR part 660, subparts C through G. Species managed under the Pacific Coast Groundfish FMP include roundfish, flatfish, rockfish, sharks, and skates.

This proposed rule (also referred to interchangeably as the “proposed action”) includes regulations that would remove the Cordell Bank Groundfish Conservation Area (GCA) off central California for all groundfish fisheries and implement a new Groundfish Exclusion Area (GEA) for all groundfish fisheries within the same geographic footprint as the Cordell Bank (50-fm isobath) bottom contact Essential Fish Habitat Conservation Area (EFHCA), which partially overlaps with the current GCA. GEAs are authorized as an area closure type under section 6.8.10 of the FMP, therefore no further changes to the FMP are necessary to designate a new GEA.

Background

In the early 2000s, several types of GCAs (defined at § 660.11) were implemented to protect overfished groundfish species off the U.S. West Coast, including the Cowcod Conservation Areas (CCAs) in the Southern California Bight (66 FR 2338, January 11, 2001), the coastwide Trawl Rockfish Conservation Area (RCA) (67 FR 57973, September 13, 2002), the coastwide Non-Trawl RCA (68 FR 907, January 7, 2003), and the Cordell Bank GCA off central California (69 FR 11063, March 9, 2004). The first iteration of the Cordell Bank GCA was implemented as a recreational groundfish closure in 2004 to protect species that had been declared overfished in preceding years, namely widow, bocaccio, canary, and yelloweye rockfishes and lingcod. Trawl fishing was later prohibited via an inseason action that expanded the boundaries of the Trawl RCA to encompass the recreational Cordell Bank closure (69 FR 23440, April 29, 2004). Then, as part of the 2005-06 Biennial Harvest Specifications and Management Measures process, the Cordell Bank GCA was specified in regulation with its own coordinates and prohibited all groundfish fishing, except for fishing for the Other Flatfish complex by the non-trawl commercial and recreational sectors (69 FR 77011, December 23, 2004). Currently, the Cordell Bank GCA prohibits take of groundfish, except for non-trawl commercial take of the Other Flatfish complex (§§ 660.230(d)(16) and 660.330(d)(18)), and recreational take of the Other Flatfish complex, petrale sole, and starry flounder (§ 660.360(c)(3)(i)(C)). The Cordell Bank GCA does not restrict other non-groundfish fisheries from operating in the area.

The Cordell Bank GCA has historically overlapped with four other closures: (1) the Trawl RCA, which prohibits commercial groundfish fishing with trawl gear; (2) the Non-Trawl RCA, which prohibits commercial groundfish fishing with most types of non-trawl gear; (3) the Cordell Bank Biogenic EFHCA, which prohibits fishing with bottom trawl gear (except for demersal seine) by all fisheries (hereafter referred to as the “bottom trawl EFHCA”); and (4) the Cordell Bank (50-fm isobath) EFHCA, which prohibits fishing with bottom contact gear by all fisheries (hereafter referred to as the “bottom contact EFHCA”). These closures can be viewed on figure 1 of the Analysis (see ADDRESSES). Each closure has different regulations that prohibit different fisheries from operating and different gear types from being used (see table 1 of the Analysis), consequently creating confusion among fishermen and challenges for enforcement officers. The Council and NMFS addressed the overlap issues with the Trawl RCA via Amendment 28 to the to the Pacific Coast Groundfish FMP (Amendment 28), which removed the Trawl RCA off the coasts of Oregon and California (84 FR 63966, November 19, 2019). The Council and NMFS addressed the overlap issues between the Cordell Bank GCA and the Non-Trawl RCA by adjusting select coordinates on the 75 fm (137 m) depth contour to align with the eastern boundary of the Cordell Bank GCA (see agenda item F.4.a, CDFW Report 1, March 2023 at https://pcouncil.org). Despite these efforts, challenges with other existing overlapping closures (i.e., the bottom trawl and bottom contact EFHCAs) still remain.

With the rebuilt status of almost all groundfish species originally declared overfished in the early 2000s, the Council began prioritizing increased fishing access to the Non-Trawl RCA and CCAs in November 2019. In alignment with the Council's resulting recommendation, in January 2024, NMFS implemented Amendment 32 to the Pacific Coast Groundfish FMP (Amendment 32; 88 FR 83830, December 1, 2023), which reduced the size of the Non-Trawl RCA for commercial non-trawl groundfish fisheries and removed the CCAs for the non-trawl commercial and recreational groundfish fisheries. The Cordell Bank GCA was not included in the Amendment 32 action because the Council's scope for Amendment 32 focused on non-trawl fishery closures only; the Cordell Bank GCA prohibits all groundfish fishing by non-trawl and trawl fisheries. However, during the development of Amendment 32, it became apparent via Council discussions in the Groundfish Advisory Subpanel (GAP) and the Enforcement Committee that there was a need to open the Cordell Bank GCA, via a future action, to address regulatory and enforcement challenges associated with the overlapping closures. Therefore, in March 2023, the Council prioritized scoping of removing the Cordell Bank GCA and other associated changes (agenda item F.8.a, Supplemental CDFW Report 1, March 2023 at https://pcouncil.org). In September 2023, the California Department of Fish and Wildlife (CDFW) proposed to remove the Cordell Bank GCA and create a new GEA that overlays the existing bottom contact EFHCA, which is intended to minimize impacts to sensitive environments from certain groundfish fishing activities. After additional deliberation, consistent with Magnuson-Stevens Act section 303(c)(1), the Council deemed the proposed regulations consistent with and necessary to implement the proposed action. After its own review, NMFS has determined that the proposed rule meets the appropriate legal standards and now solicits public comment on its provisions.

Removal of the Cordell Bank GCA

If implemented, this proposed rule would remove the Cordell Bank GCA closure from § 660.70, as well the associated groundfish prohibitions for the trawl, limited entry fixed gear (LEFG), open access (OA), and recreational fishery sectors specified at §§ 660.130, 660.230, 660.330, and 660.360, respectively. Although the Cordell Bank GCA is 64 square miles (sq mi) (165.8 square kilometers (km)), only 40.1 sq mi (104 sq km) would be opened to non-trawl gear and 10.2 sq mi (26.4 sq km) to almost all trawl gear. The bottom contact and bottom trawl EFHCAs and their associated prohibitions would remain in place, and a GEA would overlay the exact geographic footprint of the bottom contact EFHCA (see next section).

The coordinates for the Cordell Bank GCA include coordinates commonly referred to as the “100-fm ring.” These coordinates are distinct from the 100 fm (183 meter (m)) depth contour line defined at § 660.73. Per the trawl management measure regulations at § 660.130(c)(1)(ii), trawling with large footrope gear is prohibited shoreward of 100 fm (183 m) and in the area south of 46°16′ North latitude (N lat.). Removing the Cordell Bank GCA coordinates from Federal regulations entirely would default to allow trawling with large footrope gear in the 10.2 sq mi (26.4 sq km) opened to trawl gear. In order to maintain this prohibition, the coordinates for the 100-fm ring would be transferred to § 660.73, which is where the coordinates for the coastwide 100-fm (183-m) line and other lines around islands and banks are defined.

Creation of the Cordell Bank GEA

GEAs were first created by and used via Amendment 32 (88 FR 83830, December 1, 2023), which implemented eight GEAs in the Southern California Bight to protect sensitive coral ecosystems from groundfish fishing impacts when the CCAs were removed for non-trawl commercial and recreational groundfish fisheries. The Pacific Coast Groundfish FMP authorizes the creation of additional GEAs via rulemaking (see section 6.8.10). GEAs are a different type of closure from GCAs in that their primary purpose is not to protect groundfish species, but to protect habitat. Amendment 19 designated the Cordell Bank as a habitat area of particular concern (HAPC) because it contains a substantive amount of rocky reef habitat and, therefore, although there is no longer a need for the Cordell Bank GCA to protect overfished groundfish species, there remains a need to protect sensitive habitat (see next section). If implemented, this proposed rule would establish the Cordell Bank GEA at § 660.70. All groundfish fishing would be prohibited within the Cordell Bank GEA. Groundfish vessels would be able to continuously transit through the Cordell Bank GEA as long as all groundfish gear is stowed. The Cordell Bank GEA would be 26.4 sq mi (68.3 sq km), of which 23.9 sq mi (61.9 sq km) is inside the current Cordell Bank GCA and the remaining 2.5 sq mi (6.5 sq km) is outside of the GCA. The 2.5 sq mi (6.5 sq km) that is outside of the GEA overlaps with the bottom contact EFHCA and Non-Trawl RCA, meaning groundfish fishing with non-bottom contact gear (e.g., troll gear) is currently allowed. The new GEA would prohibit all groundfish fishing, thereby taking away the ability to use non-bottom contact gear in this 2.5 sq mi (6.5 sq km). After the addition of the proposed GEA, approximately 37 percent of the Cordell Bank GCA footprint would remain closed to all groundfish fishing, and most of the rest of the area would still have restrictions from the bottom contact and bottom trawl EFHCAs. Only the 10.2 sq mi (26.4 sq km, 16 percent of the GCA) opened to trawl gear would be entirely open, as there are no other overlapping closures in this area. Overall, the proposed action would open a net area of 10.2 sq mi (26.4 sq km) to trawl gear and 40.1 sq mi (103.9 sq km) to non-trawl commercial and recreational gear. The Cordell Bank GEA coordinates would be the same as the coordinates for the existing bottom contact EFHCA (listed at § 660.79(r)), which would substantively reduce regulatory complexity and enforcement challenges.

This proposed rule would also revise the regulations at § 660.10 to remove the definition of GEA from the list of defined GCAs and categorize it as its own closure type. This change would better reflect the regulatory purpose of GEAs, which is to protect sensitive habitats from groundfish fishing as opposed to overfished groundfish species from groundfish fishing.

Summary of Habitat Impacts

Known for its extensive rocky reef habitat, the Cordell Bank area is designated as groundfish essential fish habitat (EFH) and a HAPC via Amendment 19 to the Pacific Coast Groundfish FMP (71 FR 27408, May 11, 2006). It is also located within the Cordell Bank National Marine Sanctuary. The draft Analysis for this proposed action (see ADDRESSES) discloses potential impacts to habitat that may result from the opening of the Cordell Bank GCA. Specifically, the Analysis includes maps of varying benthic substrates (e.g., sandy bottom vs. hard substrate) as well as corals, sponges, and sea pens that occur in the areas proposed to be opened to groundfish trawl and non-trawl gear types. The Analysis also discusses potential shifts in fishery effort by each relevant fishery sector.

Trawl Gear Impacts

Under the proposed action, approximately 10.2 sq mi (26.4 sq km) of new area would be exposed to trawl gear. As described in the Analysis, available data shows that approximately 3.3 percent (0.54 sq mi or 1.4 sq km) of that area is rocky reef habitat, with limited coral, sponge, and sea pen observations. The remaining area is primarily made up of sand substrate with some unconsolidated mineral substrate. The Analysis also explains that significant fishing effort with trawl gear is not anticipated, as the area proposed to be opened is only 10.2 sq mi (26.4 sq km), and there has been limited to no trawl effort in the vicinity of the Cordell Bank GCA since 2018. Bottom trawl vessels typically avoid high relief rocky habitat to avoid gear damage; therefore, even if trawl vessels came to the area proposed to be opened, they would likely fish over the areas with a flatter bottom. Additionally, trawl regulations at § 660.130(c)(1)(ii) prohibit the use of large footrope gear in the area south of 46°16′ N lat. and shoreward of the 100-fm (183-m) depth contour; therefore, only small footrope gear (generally considered to be less damaging than large footrope gear) would be permitted in the 10.2 sq mi (26.4 sq km) area opened. Overall, the Analysis concludes that a minimal amount of rocky reef habitat would be exposed to trawl gear, and minimal impact from fishing would occur if trawl effort shifted into that area. For a more detailed analysis on potential habitat impacts from trawl gear, see section 3.1.2 the Analysis.

Non-Trawl Gear Impacts

Under the proposed action, approximately 40.1 sq mi (103.9 sq km) of new area would be exposed to non-trawl gear (e.g., pots, bottom longline, hook-and-line), which is generally considered to be less destructive than trawl gear (see appendix C to the Pacific Coast Groundfish FMP). As described in the Analysis, available data shows that approximately 8.9 percent (3.6 sq mi or 9.3 sq km) of the 40.1 sq mi (103.9 sq km) area proposed to be opened is rocky substrate with an additional 43.2 percent (17.3 sq mi or 44.8 sq km) categorized as unconsolidated mineral substrate. The remaining half of the proposed area to be open is categorized as sand. Additionally, there are limited coral, sponge, and sea pen observations in the area proposed to be opened.

The Analysis also predicts some effort shift into the 40.1 sq mi (103.9 sq km) area proposed to be opened from the non-trawl catch share sector fisheries, as effort data since 2021 indicates those vessels have been fishing in the vicinity of the Cordell Bank GCA. However, these vessels would likely use hook-and-line gear, which is generally considered to be less impactful on benthic habitat than non-trawl gear types that are actively fished on the bottom (e.g., pot or longline). In their November 2024 statement (see agenda item I.5.a, Supplemental GAP Report 1 at https://pcouncil.org), the Council's GAP discussed that limited pot gear activity would likely occur in the area due to the high relief habitat features and the fact that the area is too shallow for sablefish (the primary target species for pot gear). Hook-and-line gear for midwater stocks would likely be the targeted fishery occurring in the proposed action area.

Effort shift from the recreational sector is also anticipated, as the Cordell Bank area has historically been a recreational fishing ground, and public comments from the November 2024 Council meeting (see https://pcouncil.org) indicate interest in adding the Cordell Bank area to a rotation of recreational fishing locations to spread out effort on other nearby fishing locations. Overall, the Analysis anticipates some, but not significant, potential impact in the area proposed to be opened to non-trawl gear due to anticipated effort shift from the commercial and recreational non-trawl sectors. For a more detailed analysis on potential habitat impacts from non-trawl gear, see section 3.1.2 the Analysis.

In addition to opening the 40.1 sq mi (103.9 sq km) of area discussed above, NMFS proposes to close approximately 2.5 sq mi (6.5 sq km) in the Cordell Bank area that is currently open to non-trawl non-bottom contact gear. This 2.5 sq mi (6.5 sq km) area is currently within the bottom contact EFHCA, and therefore, non-bottom contact gears are permitted. However, the proposed GEA would close this small 2.5 sq mi (6.5 sq km) area to all groundfish fishing.

Essential Fish Habitat

The Magnuson-Stevens Act requires that FMPs describe and identify EFH and minimize to the extent practicable adverse effects on EFH caused by fishing. As such, EFH is described in appendices B and C to the Pacific Coast Groundfish FMP and includes the Cordell Bank area. The Pacific Coast Groundfish FMP authorizes the use of EFHCAs to protect groundfish EFH from specific types of fishing activity. As a result of the Council's 2006 EFH review process, a bottom trawl EFHCA and a bottom contact EFHCA were implemented in the Cordell Bank area via Amendment 19 to the Pacific Coast Groundfish FMP (71 FR 27408, May 11, 2006). The coordinates for these EFHCAs are listed at § 660.79(q) and (r), respectively. As a result of the 2014 EFH process, which included review of the Cordell Bank area, the bottom trawl EFHCA was later expanded via Amendment 28 (84 FR 63966, November 19, 2019). The bottom contact EFHCA was not changed because there was not new, definitive information on the benthic habitat effects of non-trawl bottom contact gear that compelled revisions. During the development of this action, the Council's Habitat Committee reviewed new information on the potential impact to EFH in the Cordell Bank area from the proposed opening, which is documented in the Analysis (see section 3.1.2). Overall, the Analysis concludes that there will not be significant impacts to EFH that would require additional mitigative measures.

Conclusion

As described in the Analysis, significant habitat impact from this action (including to designated EFH) is not anticipated. Although there would be some expected effort shift from the commercial and recreational non-trawl sectors, the primary gear type used would be hook-and-line, as fishermen tend to avoid high relief rocky habitat with bottom gear to avoid gear damage. Additionally, the area proposed to be opened is too shallow for sablefish, which is the primary target for non-trawl bottom gear types. The vast majority of coral, sponge, and sea pen observations occur within the proposed GEA and, therefore, would remain protected from groundfish fishing impacts.

Classification

Pursuant to sections 303(c) and 304(b)(1)(A) of the Magnuson-Stevens Act, the NMFS Assistant Administrator has determined that this proposed rule is consistent with the Pacific Coast Groundfish FMP, other provisions of the Magnuson-Stevens Act, and other applicable law, subject to further consideration after public comment.

Executive Order 12866

This proposed rule has been determined to be not significant for purposes of

Executive Order 12866

There are no relevant Federal rules that may duplicate, overlap, or conflict with this action.

Executive Order 14192

This proposed rule is not an Executive Order 14192 regulatory action because this rule is not significant under Executive Order 12866.

Regulatory Impact Review (RIR)

An RIR was prepared to assess all costs and benefits of available regulatory alternatives. A copy of this Analysis is available from NMFS (see ADDRESSES section). NMFS is recommending this proposed rule based on its assessment of the net benefits to the Nation of these measures.

Regulatory Flexibility Act

The Chief Counsel for Regulation of the Department of Commerce has certified to the Chief Counsel for Advocacy of the Small Business Administration that this proposed rule, if adopted, would not have a significant economic impact on a substantial number of small entities. The basis for this conclusion is provided here. In addition to comments on the analysis below, the agency requests comments on the decision to certify this proposed rule.

For purposes of the RFA (5 U.S.C. 601 et seq.) only, NMFS has established a small business size standard for businesses, including their affiliates, whose primary industry is commercial fishing (see 50 CFR 200.2). A business primarily engaged in commercial fishing is classified as a small business if it is independently owned and operated, is not dominant in its field of operation (including its affiliates), and has combined annual receipts not in excess of $11 million for all its affiliated operations worldwide. This standard applies to all businesses classified under North American Industry Classification System (NAICS) code 11411 for commercial fishing, including all businesses classified as commercial finfish fishing (NAICS 114111), commercial shellfish fishing (NAICS 114112), and other commercial marine fishing (NAICS 114119) businesses (13 CFR 121.201; 50 CFR 200.2).

A Description and Estimate of the Number of Small Entities to Which the Proposed Rule Applies

All commercial and recreational groundfish participants in the EEZ off Washington, Oregon, and California managed under the Pacific Coast Groundfish FMP may be affected by this action. However, the likely impact would be to those that fish in the action area, which includes commercial and recreational non-trawl vessels that fish out of nearby ports in central California (i.e., Bodega Bay and San Francisco). Table 1 shows the number of distinct vessels by commercial sector potentially affected by this action, the range of vessels, and average participation from 2019 to 2024 between the latitudes of 40°30′ to 36° N lat. (i.e., the latitudinal range that encompasses the action area). The majority of vessels participate in the open access (OA) Fixed Gear fishery. Due to confidentiality, individual fishing quota (IFQ) gear switching vessels were combined with limited entry fixed gear (LEFG) vessels.

Table 1—Number of Distinct Vessels, Range of Vessels, and Average Vessels for PacFIN Catch Area 1b (40°10′ to 36° N Lat.) in Total and Only From the Bodega Bay/San Francisco Port Groups, 2019-2024
Fishery sector | All ports: Distinct vessels | All ports: Range | All ports: Average | Bodega Bay/San Francisco: Distinct vessels | Bodega Bay/San Francisco: Range | Bodega Bay/San Francisco: Average
Bottom Trawl | 17 | 8-11 | 10 | 4 | <3 | 3
LE Fixed Gear DTL | 35 | 11-23 | 17 | 8 | <5 | 3
Limited Entry Sablefish ᵃ | 32 | 16-21 | 19 | 9 | 4-6 | 5
OA Fixed Gear | 445 | 99-177 | 149 | 178 | 37-71 | 59

All OA Fixed Gear vessels are assumed to be small entities, with ex-vessel revenues for all landings (groundfish and non-groundfish) averaging $88,386. In 2024, 25 of the 28 LEFG permits associated with vessels that would likely be subject to this action (i.e., required to fish in the primary or LE trip limit fisheries) were owned by small entities (self-reported). For gear switching vessels likely affected by this action, all reported as small entities in 2024. Note that there is not a strict one-to-one correlation between vessels or permits and entities; some persons or firms likely have ownership interests in more than one vessel or permit. Given these factors, the actual number of entities regulated by this action could be lower than the preceding estimates.

For recreational participants, it is likely that the participants impacted by the action would be from Bodega Bay. Available data includes only the number of angler trips, which is likely to overestimate the number of participants as one individual could take multiple angler trips in the time frame. The maximum number of participants that may therefore be affected would be 419 (total of angler trips in 2023, table 2) but is likely substantially lower given the likelihood of multiple angler trips per participant in the counts. All recreational participants are assumed to be small entities.

Table 2—Number of Angler Trips Targeting Groundfish Outside of 3 nm (5.6 km) in the Party/Charter and Private/Rental Boat Modes at Bodega Bay Recreational Angler Sampling Sites From 2019 to 2023 by Mode
[RecFIN, 10/22/2024]
Year | Party/charter boats | Private/rental boats
2019 | 0 | 17
2020 | 0 | 6
2021 | 0 | 16
2022 | 0 | 14
2023 | 116 | 303

Description and Estimate of Economic Effects on Entities, by Entity Size and Industry

The economic impact of the proposed action would be positive for the affected commercial and recreational small entities, as the proposed regulations would open a small amount of historically used fishing area, thus expanding fishing opportunity and increasing potential profitability. The proposed GEA restricts 37 percent of the area that could have been opened, and therefore the positive impacts are considered marginal. Still, the proposed regulations would provide a net increase in fishing grounds for groundfish participants by removing the GCA, which is no longer warranted given the status of the previously overfished stocks. The proposed action would also reduce regulatory complexity by streamlining overlapping area-based closures. This is expected to reduce participant confusion, as well as provide cost savings for enforcement agencies. There are three LEFG commercial permits associated with vessels that would be affected by this action that self-reported as large entities. These entities would be subject to the same positive effects as small entities, including marginally improved fishing opportunity and reduced regulatory complexity.

An Explanation of the Criteria Used To Evaluate Whether the Proposed Rule Would Impose “Significant” Economic Effects

The criteria used to evaluate this rule are disproportionality and profitability. Given that the proposed action is opening areas to fishing, with the exception of 2.5 sq mi (6.5 sq km) of the bottom contact EFHCA within the Non-Trawl RCA that will be closed to non-bottom contact gears, there are no anticipated significant economic effects that would disproportionally impact small entities or affect their profitability. The proposed action would increase opportunity overall.

An Explanation of the Criteria Used To Evaluate Whether the Proposed Rule Would Impose Effects on “A Substantial Number” of Small Entities

While this action would apply to the entirety of all entities fishing groundfish off the U.S. West Coast, and the majority of those entities are considered small entities, this rule is expected to have an impact on a minimal number of small entities given its limited geographic scope and the limited anticipated effort shift into the area.

A Description of, and an Explanation of the Basis for, Assumptions Used

Section 5.3 of the Analysis describes the data sources and methods used to determine the population of potential affected entities and those that would classify as small entities. Overall, fishing participation levels can change over time, leading to uncertainty in the number of affected entities. However, it is likely that the estimates provided are representative of the potential affected parties.

Paperwork Reduction Act

This proposed rule contains no new information collection requirements under the Paperwork Reduction Act of 1995.

List of Subjects in 50 CFR Part 660

Fisheries, Fishing, Fishing vessels.

Dated: January 26, 2026.
Samuel D. Rauch III,
Deputy Assistant Administrator for Regulatory Programs, National Marine Fisheries Service.

For the reasons set out in the preamble, NMFS proposes to amend 50 CFR part 660 as follows:

PART 660—FISHERIES OFF WEST COAST STATES

1. The authority citation for part 660 continues to read as follows:

Authority: 16 U.S.C. 773 et seq., 16 U.S.C. 1801 et seq., and 16 U.S.C. 7001 et seq.

2. In § 660.11, amend the definition of “Conservation area(s)” by:

a. Revising introductory text;

b. Revising paragraph (1) introductory text;

c. Removing paragraphs (1)(iii) and (1)(v);

d. Redesignating paragraph (1)(iv) as paragraph (1)(iii) and paragraphs (1)(vi) and (1)(vii) as paragraphs (1)(iv) and (1)(v);

e. Adding paragraph (4).

The revisions and addition read as follows:

§ 660.11 General definitions.

* * * * *

Conservation area(s) means an enclosed geographic area defined by coordinates expressed in degrees of latitude and longitude where NMFS may prohibit fishing with particular gear types. Conservation areas include Groundfish Conservation Areas (GCA), Essential Fish Habitat Conservation Areas (EFHCA), Deep-sea Ecosystem Conservation Areas (DECA) and Groundfish Exclusion Areas (GEA).

(1) Groundfish Conservation Area or GCA means a conservation area created or modified and enforced to control catch of groundfish or protected species. Regulations at § 660.60(c)(3) describe the various purposes for which NMFS may implement certain types of GCAs through routine management measures. Regulations at § 660.70 further describe and define coordinates for certain GCAs, including Yelloweye Rockfish Conservation Areas and Cowcod Conservation Areas. GCAs also include closures bounded by the EEZ or depth-based lines approximating depth contours, including Bycatch Reduction Areas or BRAs, or bounded by depth contours and lines of latitude, including Block Area Closures, or BACs, and Rockfish Conservation Areas, or RCAs, which may be closed to fishing with particular gear types. BRA, BAC, and RCA boundaries may change seasonally according to conservation needs. Regulations at §§ 660.71 through 660.74, and 660.76 define depth-based boundary lines with latitude/longitude coordinates that may be used to enact depth-based closures. Regulations in this section describe commonly used geographic coordinates that define lines of latitude. Fishing prohibitions associated with GCAs are in addition to those associated with other conservation areas.

* * * * *

(4) Groundfish Exclusion Areas or GEAs are closed areas intended to mitigate potential impacts to sensitive environments from certain groundfish fishing activity. GEAs may prohibit fishing by certain groundfish sectors or certain groundfish gear types. Geographic coordinates for GEAs are defined at § 660.70.

* * * * *

3. Amend § 660.70 by:

a. Revising the section heading;

b. Revising paragraph (a);

c. Revising paragraph (t) introductory text and adding paragraph (t)(10); and

d. Removing paragraph (u).

The revisions and addition read as follows:

§ 660.70 Groundfish Conservation Areas and Groundfish Exclusion Areas.

(a) General. Groundfish conservation area (GCA) and groundfish exclusion area (GEA) are defined in § 660.11. This section defines GCAs and GEAs whose shapes are not exclusively defined by boundary lines approximating depth contours found in §§ 660.71 through 660.74 or commonly used geographic coordinates at § 660.11. Fishing activity that is prohibited or permitted within a particular GCA or GEA is detailed at subparts C through G of part 660.

* * * * *

(t) Groundfish Exclusion Areas. The Groundfish Exclusion Areas (GEAs) are closed areas intended to protect sensitive areas, including areas with coral and sea pens. GEAs are closed to both commercial and recreational groundfish fisheries unless otherwise noted.

* * * * *

(10) Cordell Bank. The Cordell Bank GEA is defined by the straight lines connecting the following specific latitude and longitude coordinates in the order listed and connecting back to 37°57.62′ N lat., 123°24.22′ W long.:

(i) 37°57.62′ N lat., 123°24.22′ W long.;

(ii) 37°57.70′ N lat., 123°25.25′ W long.;

(iii) 37°59.47′ N lat., 123°26.63′ W long.;

(iv) 38°00.24′ N lat., 123°27.87′ W long.;

(v) 38°00.98′ N lat., 123°27.65′ W long.;

(vi) 38°02.81′ N lat., 123°28.75′ W long.;

(vii) 38°04.26′ N lat., 123°29.25′ W long.;

(viii) 38°04.55′ N lat., 123°28.32′ W long.;

(ix) 38°03.87′ N lat., 123°27.69′ W long.;

(x) 38°04.27′ N lat., 123°26.68′ W long.;

(xi) 38°02.67′ N lat., 123°24.17′ W long.;

(xii) 38°00.87′ N lat., 123°23.15′ W long.;

(xiii) 37°59.32′ N lat., 123°22.52′ W long.; and

(xvi) 37°58.24′ N lat., 123°23.16′ W long.

4. Amend § 660.73 by redesignating paragraphs (b) through (y) as paragraphs (c) through (z), and adding new paragraph (b) to read as follows:

§ 660.73 Latitude/longitude coordinates defining the 100-fm (183-m) through 150-fm (274-m) depth contours.

* * * * *

(b) Cordell Bank 100 fm ring. The 100-fm (183-m) depth contour around Cordell Bank off the State of California is defined by straight lines connecting all of the following points in the order stated:

(1) 38°03.18′ N lat., 123°20.77′ W long.;

(2) 38°06.29′ N lat., 123°25.03′ W long.;

(3) 38°06.34′ N lat., 123°29.32′ W long.;

(4) 38°04.57′ N lat., 123°31.30′ W long.;

(5) 38°02.32′ N lat., 123°31.07′ W long.;

(6) 38°00.00′ N lat., 123°28.40′ W long.;

(7) 37°58.10′ N lat., 123°26.66′ W long.;

(8) 37°55.07′ N lat., 123°26.81′ W long.;

(9) 38°00.00′ N lat., 123°23.08′ W long.; and connecting back to 38°03.18′ N lat., 123°20.77′ W long.

* * * * *

5. Amend § 660.130 by:

a. Removing paragraph (e)(2);

b. Redesignating paragraph (e)(3) through (e)(7) as (e)(2) through (e)(6); and

c. Adding paragraph (h)

The revisions and additions read as follows:

§ 660.130 Trawl fishery—management measures.

* * * * *

(e) * * *

(1) * * *

(2) Trawl RCA. This GCA is off the coast of Washington, between the US/Canada border and 46°16′ N lat. Boundaries for the trawl RCA applicable to groundfish trawl vessels throughout the year are provided in the header to table 1a (North) of this subpart and may be modified by NMFS inseason pursuant to § 660.60(c). Prohibitions at § 660.112(a)(5) do not apply under the following conditions and when the vessel has a valid declaration for the allowed fishing:

* * * * *

(3) Block area closures or BACs. BACs, defined at § 660.111, are applicable to vessels with groundfish bottom trawl or midwater trawl gear on board that is not stowed, per the prohibitions in § 660.112(a)(5). When in effect, BACs are areas closed to bottom trawl and/or midwater trawl fishing. A vessel operating, for any purpose other than continuous transiting, in the BAC must have prohibited trawl gear stowed, as defined at § 660.111. Nothing in these Federal regulations supersedes any state regulations that may prohibit trawling shoreward of the fishery management area, defined at § 660.11. Prohibitions at § 660.112(a)(5) do not apply under any of the following conditions and when the vessel has a valid declaration for the allowed fishing:

* * * * *

(4) Bycatch reduction areas or BRAs. Vessels using midwater groundfish trawl gear during the applicable Pacific whiting primary season may be prohibited from fishing shoreward of a boundary line approximating the 75 fm (137 m), 100 fm (183 m), 150 fm (274 m), or 200 fm (366 m) depth contours.

(5) Eureka management area midwater trawl trip limits. No more than 10,000-lb (4,536 kg) of whiting may be taken and retained, possessed, or landed by a vessel that, at any time during a fishing trip, fished with midwater groundfish trawl gear in the fishery management area shoreward of the boundary line approximating the 100 fm (183 m) depth contour in the Eureka management area, defined at § 660.11. See also midwater trawl depth restrictions in paragraph (c) of this section.

(6) Salmon conservation zones. Fishing with midwater trawl gear and bottom trawl gear, other than selective flatfish trawl gear, is prohibited in the Klamath River Salmon Conservation Zone and the Columbia River Salmon Conservation Zone (defined at § 660.111).

* * * * *

(h) Groundfish Exclusion Areas (GEAs). GEAs are closed areas defined by specific latitude and longitude coordinates (specified at § 660.70) where recreational and/or commercial fishing for groundfish is prohibited unless otherwise noted at § 660.70(t). It is unlawful to fish for, take and retain, possess (except for the purpose of continuous transit) or land groundfish within the GEAs unless otherwise specified at § 660.70(t). All prohibited fishing gear for targeting groundfish, as specified at § 660.70(t), must be stowed while transiting through a GEA. If fishing for non-groundfish species within a GEA, where all groundfish fishing is prohibited, then no groundfish may be on board the vessel.

6. Amend § 660.230 by removing paragraphs (d)(15) and (16) and adding paragraph (h) to read as follows:

§ 660.230 Fixed gear fishery—management measures.

* * * * *

(h) Groundfish exclusion areas (GEAs). GEAs are closed areas defined by specific latitude and longitude coordinates (specified at § 660.70) where recreational and/or commercial fishing for groundfish is prohibited unless otherwise noted at § 660.70(t). It is unlawful to fish for, take and retain, possess (except for the purpose of continuous transit) or land groundfish within the GEAs unless otherwise specified at § 660.70(t). All prohibited fishing gear for targeting groundfish, as specified at § 660.70(t), must be stowed while transiting through a GEA. If fishing for non-groundfish species within a GEA, where all groundfish fishing is prohibited, then no groundfish may be on board the vessel.

7. Amend § 660.330 by removing paragraphs (d)(17) and (18), and adding paragraph (h) to read as follows:

§ 660.330 Open access fishery—management measures.

* * * * *

(h) Groundfish exclusion areas (GEAs). GEAs are closed areas defined by specific latitude and longitude coordinates (specified at § 660.70) where recreational and/or commercial fishing for groundfish is prohibited unless otherwise noted at § 660.70(t). It is unlawful to fish for, take and retain, possess (except for the purpose of continuous transit) or land groundfish within the GEAs unless otherwise specified at § 660.70(t). All prohibited fishing gear for targeting groundfish, as specified at § 660.70(t), must be stowed while transiting through a GEA. If fishing for non-groundfish species within a GEA, where all groundfish fishing is prohibited, then no groundfish may be on board the vessel.

8. Amend § 660.360 by:

a. Revising paragraphs (c)(3)(i)(A)(3) and (c)(3)(i)(B);

b. Removing paragraph (c)(3)(i)(C); and

d. Redesignating paragraphs (c)(3)(i)(D) through (I) as paragraphs (c)(3)(i)(C) through (H).

The revisions read as follows:

§ 660.360 Recreational fishery—management measures.

* * * * *

(c) * * *

(3) * * *

(i) * * *

(A) * * *

(3) Between 38°57.50′ N lat. and 37°11′ N lat. (San Francisco Management Area), recreational fishing for the RCG Complex and lingcod is closed in the EEZ from January 1 through March 31, is prohibited in the EEZ shoreward of the boundary line approximating the 50-fm (91-m) depth contour along the mainland coast and along islands and offshore seamounts from April 1 through April 30, is closed in the EEZ from May 1 to September 30, is prohibited in the EEZ shoreward of the boundary line approximating the 50-fm (91-m) depth contour along the mainland coast and along islands and offshore seamounts from October 1 through October 31, closed in the EEZ from November 1 through November 30, and prohibited in the EEZ shoreward of the boundary line approximating the 50-fm (91-m) depth contour along the mainland coast and along islands and offshore seamounts from December 1 through December 31.

* * * * *

(B) Groundfish exclusion areas (GEAs). GEAs are closed areas defined by specific latitude and longitude coordinates (specified at § 660.70) where recreational and/or commercial fishing for groundfish is prohibited unless otherwise noted at § 660.70(t). It is unlawful to fish for, take and retain, possess (except for the purpose of continuous transit) or land groundfish within the GEAs unless otherwise specified at § 660.70(t). Recreational fishing gear for targeting groundfish may not be deployed while transiting through a GEA. If fishing for non-groundfish species within a GEA, then no groundfish may be on board the vessel.

* * * * *

[FR Doc. 2026-02043 Filed 1-30-26; 8:45 am]

BILLING CODE 3510-22-P